DEPARTMENT OF LABOR

Employment and Training Administration

Notice of a Change in Status of the Extended Benefit (EB) Program for California, Connecticut, Illinois, Nevada, and Texas

AGENCY: Employment and Training Administration, Labor.

ACTION: Notice.

This notice announces a change in benefit period eligibility under the EB program that has occurred since the publication of the last notice regarding the States' EB status:

• Based on the data released by the Bureau of Labor Statistics on August 20, 2021, the seasonally-adjusted Total Unemployment Rate (TUR) for Connecticut fell below the 8.0 percent threshold necessary to remain “on” a High Unemployment Period in EB. Therefore beginning September 11, 2021, the maximum potential entitlement for claimants on EB in Connecticut will decrease from 20 weeks to 13 weeks. Also, the seasonally-adjusted TUR for Texas fell below the 6.5 percent threshold necessary to remain “on” EB, thus the EB payable period for Texas will end on September 11, 2021.

• In addition, language in state laws which conditioned the applicability of the TUR trigger on full Federal funding resulted in “off” indicators for California, Illinois, and Nevada for the week ending August 21, 2021. This will end any payable period associated with the TUR trigger for these states on September 11, 2021.

The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor.

Persons who believe they may be entitled to EB, or who wish to inquire about their rights under the program, should contact their State Workforce Agency.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

Signed in Washington, DC.
Lenita Jacobs-Simmons,
Acting Assistant Secretary, Labor.

[FR Doc. 2021-19070 Filed 9-2-21; 8:45 am]

BILLING CODE 4510-FW-P